DEPARTMENT OF TRANSPORTATION

Federal Aviation Administration

14 CFR Part 39

[Docket No. FAA-2009-0045; Directorate Identifier 2007-NE-53-AD]

RIN 2120-AA64

Airworthiness Directives; Rolls-Royce Deutschland Ltd & Co KG Model BR700-715A1-30, BR700-715B1-30, and BR700-715C1-30 Turbofan Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

Repair Scheme BRG3086 Issue 1 instructs the repair of the High Pressure (HP) Compressor Front Drum Assembly Damping Grooves. This repair has an impact on the life of the High Pressure (HP) Compressor Front Drum Assembly.

We are proposing this AD to prevent failure of front HP compressor rotors, which could result in an uncontained engine failure and damage to the airplane.

DATES: We must receive comments on this proposed AD by March 16, 2009.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

FOR FURTHER INFORMATION CONTACT: Jason Yang, Aerospace Engineer, Engine Certification Office, FAA, Engine and Propeller Directorate, 12 New England Executive Park, Burlington, MA 01803; e-mail: jason.yang@faa.gov; telephone (781) 238-7747; fax (781) 238-7199.

SUPPLEMENTARY INFORMATION:

Comments Invited

We invite you to send any written relevant data, views, or arguments about this proposed AD. Send your comments to an address listed under the ADDRESSES section. Include “Docket No. FAA-2009-0045; Directorate Identifier 2007-NE-53-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA Airworthiness Directive 2007-0050-E, dated February 26, 2007 (referred to after this as “the MCAI”), to correct an unsafe condition for the specified products. The MCAI states:

Repair Scheme BRG3086 Issue 1 instructs the repair of the High Pressure (HP) Compressor Front Drum Assembly Damping Grooves. This repair has an impact on the life of the High Pressure (HP) Compressor Front Drum Assembly. This EAD has been raised to mandate certain specific CAUTION notes related to specific subtasks of the BR715 Time Limits Manual (TLM) T-715-3BR instructing a reduced life for certain Serial Numbers (S/N) of the High Pressure (HP) Compressor Front Drum Assemblies Part No. BRH20070 after repair BRG3086 Issue 1 has been applied and Part No. BRR21918 after repair BRG3086 Issue 1 has been applied. Results for each individual repair case are listed in the latest revision of Non-Modification Service Bulletin SB-BR700-72-A900437.

You may obtain further information by examining the MCAI in the AD docket.

Relevant Service Information

Rolls-Royce Deutschland Ltd & Co KG (RRD) has issued Alert Service Bulletin (ASB) SB-BR700-72-A900437, Revision 1, dated April 18, 2007. The actions described in this service information are intended to correct the unsafe condition identified in the MCAI.

FAA's Determination and Requirements of This Proposed AD

This product has been approved by the aviation authority of the Federal Republic of Germany, and is approved for operation in the United States. Pursuant to our bilateral agreement with the Federal Republic of Germany, they have notified us of the unsafe condition described in the MCAI and service information referenced above. We are proposing this AD because we evaluated all information provided by the EASA, and determined the unsafe condition exists and is likely to exist or develop on other products of the same type design. We are proposing this AD to require removing the affected HPC front drum assemblies from operation before reaching the new, reduced life limit.

Differences Between This AD and the MCAI or Service Information

We have found it necessary to differ from the MCAI as follows:

• We don't require operators to amend the Time Limits Manual.

• We don't allow the operators to show compliance by using RRD ASB SB-BR700-72-A900437, initial issue, dated February 26, 2007. Some of the affected parts are not included in the initial issue of the ASB.

• We have incorporated in this proposed AD, the life reduction Table for the HPC drum assemblies, by serial number (SN), that are specified in RRD ASB SB-BR700-72-A900437, Revision 1, dated April 18, 2007.

• HPC drum assembly, P/N BRH20070 is not affected by the proposed AD; since only certain HPC drums with P/N BRR21918 were affected in accordance with RRD ASB SB-BR700-72-A900437, Revision 1, dated April 18, 2007.

Costs of Compliance

Based on the service information, we estimate that this proposed AD would affect about 14 products of U.S. registry. We also estimate that it would take about 10 work-hours per product to comply with this proposed AD. The average labor rate is $80 per work-hour. Required parts would cost about $100,000 per product. Based on these figures, we estimate the cost of the proposed AD on U.S. operators to be $1,411,200. Our cost estimate is exclusive of possible warranty coverage.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Rolls-Royce Deutschland Ltd & Co KG (formerly BMW Rolls-Royce GmbH and BMW Rolls-Royce Aero Engines): Docket No. FAA-2009-0045; Directorate Identifier 2007-NE-53-AD.

Comments Due Date

(a) We must receive comments by March 16, 2009.

Affected ADs

(b) None.

Applicability

(c) This AD applies to Rolls-Royce Deutschland Ltd & Co KG model BR700-715A1-30, BR700-715B1-30, and BR700-715C1-30 turbofan engines. These engines are installed on, but not limited to, McDonnell Douglas 717-200 airplanes.

Reason

(d) Repair Scheme BRG3086 Issue 1 instructs the repair of the High Pressure (HP) Compressor Front Drum Assembly Damping Grooves. This repair has an impact on the life of the High Pressure (HP) Compressor Front Drum Assembly.

We are issuing this AD to prevent failure of front HP compressor rotors, which could result in an uncontained engine failure and damage to the airplane.

Actions and Compliance

(e) Remove the following HPC drum assemblies from operation before reaching the life limit specified in Table 1 of this AD.

Table 1—Cyclic Life by Part Number and Mission
High Pressure (HP) Compressor Rotor Front Disc Assembly: Part No. | High Pressure (HP) Compressor Rotor Front Disc Assembly: Serial No. | High Pressure (HP) Compressor Rotor Front Disc Assembly: A1-30 design | High Pressure (HP) Compressor Rotor Front Disc Assembly: B1-30 and C1-30 designs | High Pressure (HP) Compressor Rotor Front Disc Assembly: A1-30 Hawaiian | High Pressure (HP) Compressor Rotor Front Disc Assembly: C1-30 Tropical and derated
BRR21918 | 1107 | 6,600 | 4,500 | 6,600 | 3,800
BRR21918 | 1120 | 6,800 | 4,700 | 6,800 | 4,000
BRR21918 | 1122 | 7,000 | 4,900 | 7,000 | 4,100
BRR21918 | 1144 | 7,300 | 5,000 | 7,300 | 4,200
BRR21918 | 1154 | 6,800 | 4,700 | 6,800 | 4,000
BRR21918 | 1163 | 6,800 | 4,700 | 6,800 | 4,000
BRR21918 | 1166 | 6,500 | 4,500 | 6,500 | 3,800
BRR21918 | 1194 | 6,900 | 4,800 | 6,900 | 4,000
BRR21918 | 1217 | 7,000 | 4,900 | 7,000 | 4,100
BRR21918 | 1232 | 7,200 | 5,000 | 7,200 | 4,200
BRR21918 | 1255 | 7,300 | 5,100 | 7,300 | 4,300
BRR21918 | 1259 | 7,500 | 5,200 | 7,500 | 4,400
BRR21918 | 1271 | 7,300 | 5,100 | 7,300 | 4,300
BRR21918 | 1292 | 7,300 | 5,100 | 7,300 | 4,300

Other FAA AD Provisions

(f) Alternative Methods of Compliance (AMOCs): The Manager, Engine Certification Office, FAA, has the authority to approve AMOCs for this AD, if requested using the procedures found in 14 CFR 39.19.

Related Information

(g) Refer to MCAI Emergency Airworthiness Directive 2007-0050-E, dated February 26, 2007, and Rolls-Royce Deutschland Ltd & Co KG Alert Service Bulletin SB-BR700-72-A900437, Revision 1, dated April 18, 2007, for related information. Contact Rolls-Royce Deutschland Ltd & Co KG, Eschenweg 11, Dahlewitz, 15827 Blankenfelde-Mahlow, Germany; telephone 49 (0) 33-7086-1768; fax 49 (0) 33-7086-3356, or go to: http://www.rolls-royce.com/deutschland/en/default.htm, for a copy of this service information.

(h) Contact Jason Yang, Aerospace Engineer, Engine Certification Office, FAA, Engine and Propeller Directorate, 12 New England Executive Park, Burlington, MA 01803; e-mail: jason.yang@faa.gov; telephone (781) 238-7747; fax (781) 238-7199, for more information about this AD.

Issued in Burlington, Massachusetts, on January 21, 2009.
Peter A. White,
Assistant Manager, Engine and Propeller Directorate, Aircraft Certification Service.

[FR Doc. E9-3017 Filed 2-11-09; 8:45 am]

BILLING CODE 4910-13-P